DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more person and entities that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

On March 9, 2023, OFAC determined that the property and interests in property subject to U.S. jurisdiction of the following persons are blocked under the relevant sanctions authority listed below.

Individual

1. YUAN, Yun Xia (a.k.a. YUAN, Chilli; a.k.a. YUAN, Yunxia), Longgang District, Shenzhen, China; DOB 08 May 1985; POB Chen Zhou, China; nationality China; Additional Sanctions Information—Subject to Secondary Sanctions; Gender Female; Identification Number 165837990002 (United Kingdom) (individual) [NPWMD] [IFSR] (Linked To: S&C TRADE PTY CO., LTD).

Designated pursuant to section 1(a)(iv) of Executive Order 13382 of June 28, 2005, “Blocking Property of Weapons of Mass Destruction Proliferators and Their Supporters” (“E.O. 13382”), 70 FR 38567, 3 CFR, 2006 Comp., p. 170, for acting or purporting to act for or on behalf of, directly or indirectly, S&C TRADE PTY CO., LTD, a person whose property and interests in property are blocked pursuant to E.O. 13382.

Dated: March 22, 2023.
Andrea M. Gacki,
Director, Office of Foreign Assets Control, U.S. Department of the Treasury.

[FR Doc. 2023-06282 Filed 3-24-23; 8:45 am]

BILLING CODE 4810-AL-P